FEDERAL HOUSING FINANCE AGENCY

12 CFR Part 1208

DEPARTMENT OF HOUSING AND URBAN DEVELOPMENT

Office of Federal Housing Enterprise Oversight

12 CFR Part 1704

RIN 2590-AA15

Debt Collection

AGENCY: Federal Housing Finance Agency; Office of Federal Housing Enterprise Oversight.

ACTION: Final rule.

SUMMARY: The Federal Housing Finance Agency (FHFA) publishes this final rule to adopt, without change, the interim final rule that was published in the Federal Register on November 10, 2010, setting forth procedures for use by FHFA in collecting debts owed to the Federal Government. The final rule implements the requirements of the Federal Claims Collection Act and the Debt Collection Improvement Act of 1996, and includes procedures for collection of debts through salary offset, administrative offset, tax refund offset, and administrative wage garnishment.

DATES: The final rule is effective on March 29, 2011.

FOR FURTHER INFORMATION CONTACT: Andra Grossman, Senior Counsel, telephone (202) 343-1313 or Gail F. Baum, Associate General Counsel, telephone (202) 343-1508 (not toll-free numbers); Federal Housing Finance Agency, Fourth Floor, 1700 G Street, NW., Washington, DC 20552. The telephone number for the Telecommunications Device for the Deaf is (800) 877-8339.

SUPPLEMENTARY INFORMATION:

A. Debt Collection

On November 10, 2010, FHFA published an interim final rule in the Federal Register at 75 FR 68956. This final rule adopts, without change, that interim final rule that set forth procedures for use by FHFA in collecting debts owed to the Federal Government. The final rule implements the requirements of the Federal Claims Collection Act ¹ and the Debt Collection Improvement Act of 1996 (DCIA).² The DCIA requires agencies to either (1) adopt without change regulations on collecting debts by administrative offset promulgated by the Department of Justice or Department of the Treasury; or (2) prescribe agency regulations for collecting such debts by administrative offset, which are consistent with the Federal Claims Collection Standards (FCCS).³ The agency regulations are to protect the minimum due process rights that must be afforded to a debtor when an agency seeks to collect a debt, including the ability to verify, challenge, and compromise claims, and provide access to administrative appeals procedures which are both reasonable and protect the interests of the United States. FHFA issued its own agency regulations for debt collection, to account for FHFA's status as an independent regulatory agency, and for ease of use. The final rule is consistent with the FCCS, as required by the DCIA. In addition, the tax refund offset provisions of the regulations satisfy the requirement of the Internal Revenue Service (IRS) that FHFA adopt agency regulations authorizing its collection of debts by administrative offset in general and tax refund offset in particular.⁴ The administrative wage garnishment provisions of the regulations satisfy the requirement in 31 CFR 285.11(f) that FHFA adopt regulations for the conduct of administrative wage garnishment hearings.

¹ Public Law 89-508, 80 Stat. 308 (1966), as amended by the Debt Collection Act of 1982, Public Law 97-365, 96 Stat. 1749 (1982).

² Public Law 104-134, 110 Stat. 1321 (1996).

³ 31 U.S.C. 3716.

⁴ 31 U.S.C. 3720A(b)(4); 26 CFR 301.6402-6(b);31 CFR 285.2(c).

B. Effective Date

This final rule, without change, affirms the establishment of 12 CFR part 1208 and removal of 12 CFR part 1704 by the interim final rule that is already in effect. FHFA determined that the interim final rule pertains to agency practice and procedure and is interpretative in nature. The procedures contained in the interim final rule for salary offset, administrative offset, tax refund offset, and administrative wage garnishment are mandated by law and by regulations promulgated by the Office of Personnel Management, jointly by the Department of the Treasury and the Department of Justice, and by the IRS. FHFA determined that the interim final rule was not subject to the Administrative Procedure Act (APA) and the requirements of the APA for a notice and comment period and for a delayed effective date.⁵ While the interim final rule became effective on November 10, 2010, FHFA provided a 60-day comment period that ended on January 10, 2011. FHFA did not receive any comments. Based on the rationale set forth in the interim final rule, FHFA adopts the provisions of the interim final rule as a final rule without any changes.

⁵ 5 U.S.C. 553(b), (c) and(d)(3).

Regulatory Impact

Paperwork Reduction Act

The final rule does not contain any information collection requirement that requires the approval of the Office of Management and Budget under the Paperwork Reduction Act.⁶

⁶ 44 U.S.C. 3501 et seq.

Regulatory Flexibility Act

The Regulatory Flexibility Act requires that a regulation that has a significant economic impact on a substantial number of small entities, small businesses, or small organizations must include an initial regulatory flexibility analysis describing the regulation's impact on small entities.⁷ Such an analysis need not be undertaken if the agency has certified that the regulation will not have a significant economic impact on a substantial number of small entities.⁸ FHFA has considered the impact of the final rule under the Regulatory Flexibility Act. FHFA certifies that the final rule is not likely to have a significant economic impact on a substantial number of small business entities because the rule applies primarily to Federal employees and a limited number of Federal and business entities.⁹

⁷ 5 U.S.C. 601 et seq.

⁸ 5 U.S.C. 605(b).

⁹ Id.

List of Subjects

12 CFR Part 1208

Administrative practice and procedure, Claims, Debt collection, Government employees, Wages.

12 CFR Part 1704

Administrative practice and procedure, Debt collection.

PART 1208—DEBT COLLECTION

PART 1704—[REMOVED]

Authority and Issuance

Accordingly, the interim final rule establishing 12 CFR part 1208 and removing 12 CFR part 1704 that was published in the Federal Register at 75 FR 68956 on November 10, 2010, is adopted as a final rule without change.

Dated: March 18, 2011.
Edward J. DeMarco,
Acting Director, Federal Housing Finance Agency.

[FR Doc. 2011-7341 Filed 3-28-11; 8:45 am]

BILLING CODE 8070-01-P